DEPARTMENT OF HOUSING AND URBAN DEVELOPMENT

[Docket No. FR-7092-N 33; OMB Control No.: 2577-0281]

30-Day Notice of Proposed Information Collection: Jobs Plus Pilot Program

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: October 27, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: Anna Guido, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on July 21, 2025 (90 FR 34293).

A. Overview of Information Collection

Title of Information Collection: Jobs Plus Pilot Program.

OMB Approval Number: 2577-0281.

Type of Request: Revision of currently approved collection.

Form Number: SF-424, SF425, SF-LLL, HUD 2880, HUD-50144, HUD 50153, HUD 1044, HUD 424B, HUD 50070, HUD 2991 and HUD 2996.

Description of the need for the information and proposed use: The information collection is required to administer the Jobs Plus program, including applying for funds and grantee reporting.

Information collection | Number of respondents annually | Responses annually (frequency) | Total responses annually | Burden hours per response | Total burden hours annually | Hourly cost (salary) | Total burden cost annually
NOFO/Grant Application Collection
SF-424 Application for Federal Assistance (4040-0004) | 48 | 1 | 48 | 0 | 0 | $0.00 | $0.00
HUD-2880 Applicant Disclosure (2501-0044) | 48 | 1 | 48 | 0 | 0 | 0.00 | 0.00
Certification Regarding Lobbying | 48 | 1 | 48 | 0.25 | 12 | 41.39 | 496.68
SF-LLL—Lobbying (4040-0013) | 48 | 1 | 48 | 0 | 0 | 0.00 | 0.00
HUD 424B Assurances and Certifications (2501-0044) | 48 | 1 | 48 | 0 | 0 | 0.00 | 0.00
Certification of Consistency with the Consolidated Plan (HUD-2991) | 48 | 1 | 48 | 0 | 0 | 0.00 | 0.00
Certification of Opportunity Zone (HUD-2996) | 48 | 1 | 48 | 0 | 0 | 0.00 | 0.00
Certification for a Drug-Free Workplace (HUD-50070) | 48 | 1 | 48 | 0 | 0 | 0.00 | 0.00
Map | 48 | 1 | 48 | 2 | 96 | 41.39 | 3,973.44
MOU between PHA and WDB | 48 | 1 | 48 | 2 | 96 | 41.39 | 3,973.44
Match/Leverage Commitment Letters | 48 | 1 | 48 | 10 | 480 | 41.39 | 19,867.20
Schedule | 48 | 1 | 48 | 2 | 96 | 41.39 | 3,973.44
Organizational chart | 48 | 1 | 48 | 1 | 48 | 41.39 | 1,986.72
Executive, summary documentation | 48 | 1 | 48 | 3 | 144 | 41.39 | 5,960.16
Rating Factor 1—Capacity | 48 | 1 | 48 | 10 | 480 | 41.39 | 19,867.20
Rating Factor 2—Need | 48 | 1 | 48 | 8 | 384 | 41.39 | 15,893.76
Rating Factor 3—Soundness of Approach | 48 | 1 | 48 | 12 | 576 | 41.39 | 23,840.64
Detailed Program Budget | 48 | 1 | 48 | 3 | 144 | 41.39 | 5,960.16
Summary Jobs Plus Budget (Form HUD-50144) | 48 | 1 | 48 | 2 | 96 | 41.39 | 3,973.44
Narrative to Program Budget | 48 | 1 | 48 | 4 | 192 | 41.39 | 7,946.88
Rating Factor 4—Match/Leverage table | 48 | 1 | 48 | 1 | 48 | 41.39 | 1,986.72
Rating Factor 5—Preference Points Documentation (HUD-50153 or other) | 48 | 1 | 48 | 0.25 | 12 | 41.39 | 496.68
Sub-Total NOFO/Application Collection |  |  | 48 | 60.5 | 2904 |  | 120,196.56
Grant Administration Collection
Code of Conduct (if not on HUD website, if recently updated, if not previously submitted) | 8 | 1 | 8 | 1 | 8 | 41.39 | 331.12
HUD-1044/Grant Agreement | 10 | 1 | 10 | 0 | 0 | 41.39 | 0.00
Quarterly reporting | 55 | 4 | 220 | 10 | 2200 | 41.39 | 91,058.00
Annual reporting | 55 | 1 | 55 | 8 | 440 | 41.39 | 18,211.60
Workplan | 55 | 1 | 55 | 14 | 770 | 41.39 | 31,870.30
Budget (HUD-50144) | 55 | 1 | 55 | 2 | 110 | 41.39 | 4,552.90
Federal Financial Report (Form SF-425) (4040-0014) | 8 | 1 | 8 | 0 | 0 | 0.00 | 0.00
Sub-Total—Non-NOFO/Application Collection |  |  | 411 | 35 | 3528 |  | 146,023.92
Grand Totals | 103 |  | 459 | 95.5 | 6432 |  | 266,220.48

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

(Authority: Section 2 of the Paperwork Reduction Act of 1995, 44 U.S.C. 3507.)

Anna Guido,
Department PRA Compliance Officer, Office of Policy Development and Research, Chief Data Officer.

[FR Doc. 2025-18563 Filed 9-24-25; 8:45 am]

BILLING CODE 4210-67-P